DEPARTMENT OF AGRICULTURE

Forest Service

Amendment to the Caribou National Forest Land Management Plan

AGENCY: Forest Service, Agriculture (USDA).

ACTION: Notice of opportunity to object to the amendment to the Land Management Plan for the Caribou National Forest.

SUMMARY: The Forest Service, U.S. Department of Agriculture, is amending the Caribou National Forest Land Management Plan (forest plan). The Forest Service has prepared a Final Supplemental Environmental Impact Statement for the Crow Creek Pipeline Project Lower Valley Energy and draft record of decision that includes a programmatic plan amendment to the forest plan. The plan amendment would establish a utility corridor and applies to approximately 44 acres of National Forest System lands on the Montpelier Ranger District. This notice is to inform the public that the Caribou-Targhee National Forest is initiating a 60-day period where individuals or entities with specific concerns about the amendment to the forest plan may file objections for Forest Service review prior to the approval of the amendment.

DATES: The publication date of the legal notice in the Caribou-Targhee National Forest newspaper of record, Idaho State Journal, initiates the 60-day objection filing period and is the exclusive means for calculating the time to file an objection (36 CFR 219.52(c)(5)). An electronic copy of the legal notice with the publication date will be posted at https://www.fs.usda.gov/project/ctnf/?project=63218.

ADDRESSES: The Crow Creek Pipeline Project Lower Valley Energy Final Supplemental Environmental Impact Statement draft record of decision and other supporting information will be available for review at: https://www.fs.usda.gov/project/ctnf/?project=63218.

Objections must be submitted to the objection reviewing officer by one of the following methods:

• Objections may be submitted electronically at https://www.fs.usda.gov/project/ctnf/?project=63218 with subject: Caribou National Forest Plan Amendment Objection. Electronic submissions must be submitted in a format (Word, PDF, or Rich Text) that is readable and searchable with optical character recognition software.

• By Fax: (801) 625-5365. Faxes must be addressed to “Objection Coordinator.” The fax coversheet should include a subject line with “Caribou National Forest Plan Amendment Objection” and specify the number of pages being submitted.

• Via regular mail to the following address: Objection Reviewing Officer, Caribou National Forest Plan Amendment, Forest Service Intermountain Regional Office, 324 25th Street, Ogden, UT 84401.

• Hand delivery of written objections during normal working hours to the Intermountain Regional Office, Hansen Federal Building, Room 4016, 324 25th Street, Ogden, UT 84401.

FOR FURTHER INFORMATION CONTACT: Robbert Mickelsen, Caribou-Targhee National Forest Ecosystem Branch Chief, robbert.mickelsen@usda.gov, 208-557-5764. Individuals who use telecommunications devices for the hearing impaired may call the Federal Relay Service (FRS) at 1(800) 877-8339, 24 hours a day, every day of the year, including holidays.

SUPPLEMENTARY INFORMATION: The amendment would establish a 20-foot-wide utility corridor (corresponding with the Crow Creek Pipeline Project's permanent right-of-way) where management prescription 8.1(b)—Concentrated Development Areas would apply instead of the existing management prescription. Management prescription 8.1(b) applies to concentrated developments, including communication sites, utility corridors, and administrative sites. The utility corridor would cross forest plan management prescription areas: 2.7.1(d)—Elk and Deer Winter Range, Critical; 2.7.2(d)—Elk and Deer Winter Range; 2.8.3—Aquatic Influence Zone; and 6.2(b)—Rangeland Vegetation Management. The plan amendment would change approximately 8.5 acres of prescription 2.7.1(d)—Elk and Deer Winter Range, Critical; 3.6 acres of prescription 2.7.2(d)—Elk and Deer Winter Range; and 32 acres of prescription 6.2(b)—Rangeland Vegetation Management to prescription 8.1(b)—Concentrated Development Areas. The portions of the proposed utility corridor that occur within prescription 2.8.3—Aquatic Influence Zone overlap with the other prescriptions and are accounted for in the aforementioned acres.

The decision to approve the amendment to the Caribou National Forest plan in association with the decision on the Crow Creek Pipeline Project Lower Valley Energy is subject to the objection process pursuant to 36 CFR 219 subpart B (219.50 to 219.62). Per 36 CFR 219.53 only individuals and entities who have submitted substantive formal comments related to amending the forest plan during the opportunities for public comment that are attributable to the objector may file an objection unless the objection concerns an issue that arose after the opportunities for formal comment.

How To File an Objection

Objections must be submitted to the reviewing officer at the address shown in the ADDRESSES section of this notice. An objection must include the following (36 CFR 219.54(c)):

(1) The objector's name and address along with a telephone number or email address if available. In cases where no identifiable name is attached to an objection, the Forest Service will attempt to verify the identity of the objector to confirm objection eligibility;

(2) Signature or other verification of authorship upon request (a scanned signature for electronic mail may be filed with the objection);

(3) Identification of the lead objector when multiple names are listed on an objection. The Forest Service will communicate to all parties to an objection through the lead objector. Verification of the identity of the lead objector must also be provided if requested;

(4) The name of the plan, plan amendment, or plan revision being objected to, and the name and title of the responsible official;

(5) A statement of the issues and/or parts of the plan, plan amendment, or plan revision to which the objection applies;

(6) A concise statement explaining the objection and suggesting how the draft decision may be improved. If the objector believes that the plan, plan amendment, or plan revision is inconsistent with law, regulation, or policy, an explanation should be included;

(7) A statement that demonstrates the link between the objector's prior substantive formal comments and the content of the objection, unless the objection concerns an issue that arose after the opportunities for formal comment; and

(8) All documents referenced in the objection (a bibliography is not sufficient), except the following need not be provided:

a. All or any part of a Federal law or regulation,

b. Forest Service Directive System documents and land management plans or other published Forest Service documents,

c. Documents referenced by the Forest Service in the planning documentation related to the proposal subject to objection, and

d. Formal comments previously provided to the Forest Service by the objector during the proposed plan, plan amendment, or plan revision comment period.

It is the responsibility of the objector to ensure that the reviewing officer receives the objection in a timely manner. The regulations generally prohibit extending the length of the objection filing period (36 CFR 219.56(d)). However, when the time period expires on a Saturday, Sunday, or a Federal holiday, the time is extended to the end of the next Federal working day (11:59 p.m. for objections filed by electronic means such as email or facsimile machine) (36 CFR 219.56).

Responsible Official

The responsible official who will approve the record of decision and the amendment to the forest plan is Mel Bolling, Caribou-Targhee Forest Supervisor, 1405 Hollipark Dr., Idaho Falls, ID 83401, 208-557-5761. The Deputy Regional Forester is the reviewing officer for the amendment to the forest plan because the Forest Supervisor is the responsible official (36 CFR 219.56(e)).

Keith Lannom,
Associate Deputy Chief, National Forest System.

[FR Doc. 2024-15652 Filed 7-18-24; 8:45 am]

BILLING CODE 3411-15-P